ENVIRONMENTAL PROTECTION AGENCY

[EPA-R05-SFUND-2023-0369; FRL-11170-01-R5]

Proposed Prospective Purchaser Agreement for the Delphi 1 Anderson Site in Anderson, Indiana

In notice document 2023-15215 beginning on page 46155 in the issue of Wednesday, July 19, 2023, make the following corrections:

1. On page 46155, in the third column, in the third line, “[EPA-R05-INSERT; FRL-INSERT-Region 5]” should read “[EPA-R05-SFUND-2023-0369; FRL-11170-01-R5]”.

2. On page 46156, in the first column, in the twenty-third line, under ADDRESSES, “[EPA-R05-INSERT; FRL-INSERT-Region 5]” should read “[EPA-R05-SFUND-2023-0369; FRL-11170-01-R5]”.

3. On page 46156, in the first column, in the eleventh line from the bottom, “[EPA-R05-INSERT; FRL-INSERT-Region 5]” should read “[EPA-R05-SFUND-2023-0369; FRL-11170-01-R5]”.

[FR Doc. C1-2023-15215 Filed 8-7-23; 8:45 am]

BILLING CODE 0099-10-P